FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 002771F.

Name: Alfredo Moreno dba Ace Forwarding.

Address: 50 Neptune Road, Toms River, NJ 08753.

Date Revoked: November 27, 2004.

Reason: Failed to maintain a valid bond.

License Number: 018570N.

Name: Bon Voyage Logistics, Inc.

Address: 17595 Almahurst, Suite 212, City of Industry, CA 91748.

Date Revoked: November 30, 2004.

Reason: Failed to maintain a valid bond.

License Number: 015203N.

Name: Classic International, Inc.

Address: 1674 Broadway, Suite 802, New York, NY 10019.

Date Revoked: December 1, 2004.

Reason: Failed to maintain a valid bond.

License Number: 004307F.

Name: Edward Mittelstaedt, Inc.

Address: c/o MGM, 341 Broadway, San Francisco, CA 94133.

Date Revoked: December 7, 2004.

Reason: Surrendered license voluntarily.

License Number: 003273F.

Name: Evans, Wood and Mooring, Inc.

Address: 5959 W. Century Blvd., Suite 571, Los Angeles, CA 90045.

Date Revoked: November 30, 2004.

Reason: Failed to maintain a valid bond.

License Number: 018391N.

Name: LCL Cargo Services Inc.

Address: 8100 NW. 29th Street, Miami, FL 33122.

Date Revoked: December 1, 2004.

Reason: Failed to maintain a valid bond.

License Number: 016584F.

Name: Midwest Freight, Inc.

Address: 7956 Clyo Road, Dayton, OH 45459.

Date Revoked: December 1, 2004.

Reason: Failed to maintain a valid bond.

License Number: 016485N.

Name: Nautical Services Corp. dba Rush International.

Address: 12337 Jones Road, Suite 301, Houston, TX 77070.

Date Revoked: December 1, 2004.

Reason: Failed to maintain a valid bond.

License Number: 001371F.

Name: Pacheco International Corp.

Address: 11207 So. La Cienega Blvd., Los Angeles, CA 90045.

Date Revoked: December 1, 2004.

Reason: Failed to maintain a valid bond.

License Number: 017575N.

Name: Quantum Logistics, Inc.

Address: 5025 Florence Street, Unit D, Denver, CO 80239.

Date Revoked: December 4, 2004.

Reason: Failed to maintain a valid bond.

License Number: 000791F.

Name: Sig M. Glukstad, Inc. dba Miami International Forwarders dba MIF.

Address: 1801 NW 82nd Avenue, Miami, FL 33126.

Date Revoked: December 2, 2004.

Reason: Failed to maintain a valid bond.

License Number: 004175N.

Name: Silken Fortress Corporation dba Transcargo International.

Address: 5858 S. Holmes Avenue, Los Angeles, CA 90001.

Date Revoked: December 1, 2004.

Reason: Failed to maintain a valid bond.

Sandra L. Kusumoto,
Director, Bureau of Certification and Licensing.

[FR Doc. 04-28018 Filed 12-21-04; 8:45 am]

BILLING CODE 6730-01-P